FEDERAL HOUSING FINANCE AGENCY

[No. 2010-N-17]

Office of Inspector General; Delegation of Authorities

AGENCY: Office of Inspector General, Federal Housing Finance Agency.

ACTION: Notice of delegation of authorities.

SUMMARY: This notice delegates two authorities of the Inspector General, Office of Inspector General for the Federal Housing Finance Agency (FHFA-OIG), to the FHFA-OIG Principal Deputy Inspector General, the FHFA-OIG Deputy Inspector General for Audit, the FHFA-OIG Deputy Inspector General for Investigations & Evaluations, and the FHFA-OIG Chief Counsel. These authorities are: (1) The authority to issue subpoenas; and (2) the authority to request information under 5 U.S.C. 552a(b)(7).

DATES: Effective Date: December 27, 2010.

FOR FURTHER INFORMATION CONTACT: Bryan Saddler, Chief Counsel, FHFA-OIG, at (202) 408-2577, or Bryan.Saddler@fhfa.gov.

SUPPLEMENTARY INFORMATION: The Federal Housing Finance Regulatory Reform Act of 2008 (Reform Act), which was passed as Division A of the Housing and Economic Recovery Act of 2008 (HERA), Public Law 110-289, 122 Stat. 2654, 2913, abolished both the Federal Housing Finance Board (FHFB), an independent agency that oversaw the Federal Home Loan Banks (Banks), and the Office of Federal Housing Enterprise Oversight (OFHEO), an office within the Department of Housing and Urban Development (HUD) that oversaw the “safety and soundness” of Fannie Mae and Freddie Mac. See 12 U.S.C. 1422a, 4502(6), 4511, 4512, 4513, 4541, 4563 (2006); H.R. Rep. No. 110-142, at 95. The Reform Act established in place of the FHFB and OFHEO a new entity, the Federal Housing Finance Agency (FHFA), which now regulates and supervises Fannie Mae, Freddie Mac, and the 12 Banks. See Reform Act sections 1002, 1101, 1102, 1301, 1311; 12 U.S.C.A. 4511, 4512, 4513 (2009).

Section 1105 of HERA also amended the Federal Housing Enterprises Financial Safety and Soundness Act of 1992 and the Inspector General Act of 1978 (the IG Act), by specifying that there shall be established an Inspector General within FHFA. See 12 U.S.C. 4517(d). FHFA-OIG is responsible for, among other things, conducting audits, investigations, and inspections of FHFA's programs and operations, and recommending polices that promote economy and efficiency in the administration of, and prevent and detect fraud and abuse in, those programs and operations. Section 6(a)(4) of the IG Act authorizes the Inspector General to require by subpoena the production of all information, documents, reports, answers, records, accounts, papers, and other data and documentary evidence deemed necessary in the performance of the Inspector General's function. This notice delegates the Inspector General's subpoena issuance authority to the FHFA-OIG Principal Deputy Inspector General, the FHFA-OIG Deputy Inspector General for Audit, the FHFA-OIG Deputy Inspector General for Investigations & Evaluations, and the FHFA-OIG Chief Counsel.

Section 552a(b)(7) of Title 5, United States Code, authorizes the Inspector General to request information protected by the Privacy Act for a civil or criminal law enforcement activity. This notice delegates this authority to request records protected by the Privacy Act for a civil or criminal law enforcement activity from the Inspector General to the FHFA-OIG Principal Deputy Inspector General, the FHFA-OIG Deputy Inspector General for Audit, the FHFA-OIG Deputy Inspector General for Investigations & Evaluations, and the FHFA-OIG Chief Counsel.

The Inspector General has not limited his authority to issue subpoenas or to request information under 5 U.S.C. 552a by this delegation. Also, this delegation expressly prohibits further delegation or redelegation.

Accordingly, the Inspector General delegates the following authorities:

Section A. Authority Delegated: The Inspector General delegates to the FHFA-OIG Principal Deputy Inspector General, the FHFA-OIG Deputy Inspector General for Audit, the FHFA-OIG Deputy Inspector General for Investigations & Evaluations, and the FHFA-OIG Chief Counsel, the authority to require by subpoena the production of all information, documents, reports, answers, records, accounts, papers, and other data and documentary evidence necessary in the performance of the functions assigned by HERA and the Inspector General Act.

Additionally, the Inspector General delegates to the FHFA-OIG Principal Deputy Inspector General, the FHFA-OIG Deputy Inspector General for Audit, the FHFA-OIG Deputy Inspector General for Investigations & Evaluations, and the FHFA-OIG Chief Counsel, the authority to request information under 5 U.S.C. 552a(b)(7).

Section B. No Further Delegation or Redelegation: The authority delegated in Section A above may not be further delegated or redelegated.

Authority: Pub. L. 110-289, section 1105; 5 U.S.C. App. 3 § 6(a)(4); 5 U.S.C. 301.

Dated: December 14, 2010.
Steve A. Linick,
Inspector General.

[FR Doc. 2010-32348 Filed 12-23-10; 8:45 am]

BILLING CODE 8070-01-P